DEPARTMENT OF DEFENSE

Department of the Army, Corps of Engineers

[USACE Project No. SWF-2010-00244]

Availability of a Final Regional Environmental Impact Statement To Analyze Potential Impacts Within Defined Geographic Regions in Texas That May Be Affected by Future U.S. Army Corps of Engineers, Fort Worth District, Permit Decisions for Future Surface Coal and Lignite Mine Expansions or Satellite Mines Within the District's Area of Responsibility

AGENCY: Department of the Army, U.S. Army Corps of Engineers, DoD.

ACTION: Notice of availability.

SUMMARY: The U.S. Army Corps of Engineers (USACE), Fort Worth District, as lead federal agency, has prepared this Regional Environmental Impact Statement (REIS) to analyze potential impacts within defined geographic regions in Texas that may be affected by future USACE, Fort Worth District, permit decisions for future surface coal and lignite mine expansions or satellite mines within the District's area of responsibility. The REIS has been prepared in compliance with the National Environmental Policy Act of 1969 (NEPA), the Council on Environmental Quality (CEQ) Regulations for Implementing the Procedural Provisions of NEPA (40 CFR parts 1500-1508), and the USACE Procedures for Implementing NEPA (33 CFR part 230).

FOR FURTHER INFORMATION CONTACT: Mr. Darvin Messer, Regulatory Project Manager at (817) 886-1744 or via email: Darvin.Messer@usace.army.mil.

SUPPLEMENTARY INFORMATION: The USACE, Fort Worth District, is proposing changes to its regulatory framework for surface coal and lignite mines in Texas. The proposed regulatory framework includes the establishment of a Regional General Permit (RGP) and a revised Letter of Permission (LOP) procedure with modifications to aquatic resource impact thresholds and a change from agency concurrence to agency coordination as compared to the current process. No changes to the criteria for Nationwide Permit (NWP) 21 or NWP 49 are proposed.

The REIS considers the potential environmental impacts of future mine expansions or satellite mines in six study areas along the coal-bearing formations in Texas that run from southwest Texas to northeast Texas. The study areas encompass locations within the coal/lignite belt in Texas that were determined to be within reasonable proximity to existing surface coal and lignite mines with potential for future expansion.

Copies of the Final REIS may be obtained by contacting USACE Fort Worth District Regulatory Branch at (817) 886-1731 or downloaded/printed from the Fort Worth District USACE internet Web site at: http://www.swf.usace.army.mil/Missions/Regulatory/Permitting/REISforLigniteMininginTexas.aspx

Copies of the Final REIS are also available for inspection at the locations identified below:

Pittsburg-Camp County Public Library, 613 Quitman Street, Pittsburg, TX 75686

Sammy Brown Library, 319 S. Market St., Carthage, TX 75633

Franklin County Library, 100 Main Street East, Mt. Vernon, TX 75457

Rusk County Library, 106 East Main St., Henderson, TX 75652

Sulphur Springs Public Library, 611 Davis St. North, Sulphur Springs, TX 75482

Fannie Brown Booth Library, 619 Tenaha Street, Center, TX 75935

Rains County Public Library, 150 Doris Briggs Parkway, Emory, TX 75440

Tyler Public Library, 201 S. College Ave., Tyler, TX 75702

Mount Pleasant Public Library, 601 North Madison Ave., Mount Pleasant, TX 75455

Palestine Public Library, 2000 S. Loop 256, Ste. 42, Palestine, TX 75801

Quitman Public Library, 202 East Goode Street, Quitman, TX 75783

Marlin Public Library, 400 Oaks St., Marlin, TX 76661

Singletary Memorial Library, 207 E 6th St, Rusk, TX 75785

Mary Moody Northen Municipal Library, 350 West Main Street, Fairfield, TX 75840

Longview Public Library, 222 W. Cotton St., Longview, TX 75601

Clint W. Murchinson Memorial Library, 121 S. Prairieville, Athens, TX 75751

Marshall Public Library, 300 S. Alamo Blvd., Marshall, TX 75670

Elmer P. & Jewel Ward Memorial Library, 207 E St Mary's St, Centerville, TX 75833

Groesbeck Maffett Public Library, 601 W. Yeagua St., Groesbeck, TX 76642

Georgetown Public Library, 402 W. 8th St., Georgetown, TX 78626

Jourdanton Community Library, 1101 Cambell Ave., Jourdanton, TX 78026

Carnegie Library, 315 E. Decherd Street, Franklin, TX 77856

Live Oak County Library, 102 Le Roy St, Three Rivers, TX 78071

Van Zandt County Public Library, 317 First Monday Ln, Canton, TX 75103

Dimmit County Public Library, 200 N. 9th Street, Carrizo Springs, TX 78834

Bastrop Public Library, 1100 Church Street, Bastrop, TX 78602

Kinney County Public Library, 510 South Ellen St., Bracketville, TX 78832

Harrie P. Woodson Memorial Library, 704 W. Hwy. 21, Caldwell, TX 77836

Eagle Pass Main Library, 589 East Main, Eagle Pass, TX 78852

Giddings Public Library, 276 North Orange St., Giddings, TX 78942

Crystal City Memorial Library, 101 E Dimmit, Crystal City, TX 78839

Cameron Public Library, 304 East 3rd Street, Cameron, TX 76520

Stephen L Brooks,
Chief, Regulatory Division.

[FR Doc. 2016-10000 Filed 4-28-16; 8:45 am]

BILLING CODE 3720-58-P